DEPARTMENT OF DEFENSE

Office of the Secretary

[Docket ID DoD-2020-OS-0069]

Proposed Collection; Comment Request

AGENCY: National Defense University, Department of Defense (DoD).

ACTION: Information collection notice.

SUMMARY: In compliance with the Paperwork Reduction Act of 1995, the National Defense University announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 2, 2020.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to National Defense University, 300 5th Avenue SW Building 62, Washington, DC, ATTN: LTC Ann Summers, or call (202) 685-3323.

SUPPLEMENTARY INFORMATION:

Title; Associated Form; and OMB Number: National Defense University (NDU) Student Profile; OMB Control Number 0704-XXXX.

Needs and Uses: This information collection is required to complete the official student record, which is stored in the University Student Management System (USMS), a component of the NDU Enterprise Information System. Through this information collection, students provide profile information such as demographics, educational background, military service or professional background, and emergency contact information. The information is critical to university operations as it is used to fulfill mandatory reporting requirements and for the safety of our students. The information is collected from students electronically, via a web-based form that contains a combination of selected-response (radio buttons, drop-down menus) and open-response items. The National Defense University Student Profile (NSP) is completed by all students, and is administered using a Drupal-based survey platform provided by USA Learning.

The data are downloaded, processed, and transferred to the USMS by NDU's Office of Institutional Research. The end result is a set of complete student records for each academic year in the official repository for such record. The data are used for various institutional purposes such as mandatory reporting and notifying students of emergencies or closures.

Affected Public: Individuals and Households, Foreign Nationals.

Annual Burden Hours: 841.7.

Number of Respondents: 2525.

Responses per Respondent: 1.

Annual Responses: 2525.

Average Burden per Response: 20 Minutes.

Frequency: Annually.

Dated: August 27, 2020.
Aaron T. Siegel,
Alternate OSD Federal Register Liaison Officer, Department of Defense.

[FR Doc. 2020-19296 Filed 8-31-20; 8:45 am]

BILLING CODE 5001-06-P